DEPARTMENT OF TRANSPORTATION

Surface Transportation Board

[STB Finance Docket No. 34710]

CG Railway, Inc.—Lease and Operation Exemption—Port of New Orleans, LA

CG Railway, Inc., (CGR), a Class III rail carrier, has filed a verified notice of exemption under 49 CFR 1150.41 to lease from the Port of New Orleans (Port), an agency of the State of Louisiana, and operate approximately 3.4 miles of rail line consisting of the Port's North Yard, including Track Nos. 1, 2, 3, 4, 5, 6, and 7, and the Elaine Street Lead between milepost G1.2 and milepost G2.4, which will enable it to interchange traffic directly with CSX Transportation, Inc., in New Orleans.¹

¹ CGR states that operations on the line will be performed by it either directly or through the use of a contract agent.

CGR certifies that its projected annual revenues as a result of this transaction will not result in the creation of a Class II or Class I rail carrier, and further certifies that its projected annual revenues will not exceed $5 million. The transaction was scheduled to be consummated on or shortly after June 8, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34710, must be filed with the Surface Transportation Board, 1925 K Street, NW., Washington, DC 20423-0001. In addition, a copy of each pleading must be served on Karl Morell, Ball Janik LLP, 1455 F Street, NW., Suite 225, Washington, DC 20005.

Board decisions and notices are available on our Web site at www.stb.dot.gov.

Decided: June 27, 2005.
By the Board, David M. Konschnik, Director, Office of Proceedings.
Vernon A. Williams,
Secretary.

[FR Doc. 05-13021 Filed 6-30-05; 8:45 am]

BILLING CODE 4915-01-P